ENVIRONMENTAL PROTECTION AGENCY

[OPPTS-00309; FRL-6763-8]

Fiscal Year 2001 Environmental Justice Through Pollution Prevention Grant Funds; Notice of Availability

AGENCY: Environmental Protection Agency (EPA)

ACTION: Notice.

SUMMARY: EPA is soliciting grant proposals under the Environmental Justice Through Pollution Prevention (EJP2) grant program. EPA anticipates that approximately $750,000 will be available for Fiscal Year (FY) 2001. This program promotes pollution prevention approaches that address environmental justice concerns in affected communities. Eligible recipients of the grant funds include incorporated non-profit environmental Organizations, environmental justice organizations, community grassroots organizations, including religious and civic groups, local governments, and federally recognized tribal governments.

DATES: All applications must be received by the EPA contractor, Eastern Research Group (ERG), on or before 5 p.m., e.s.t., April 20, 2001. You must submit your application in accordance with the instructions and requirements laid out in Units I., III., and IV. of the SUPPLEMENTARY INFORMATION.

FOR FURTHER INFORMATION CONTACT: For general information contact: Barbara Cunningham, Acting Director, Environmental Assistance Division, Office of Pollution Prevention and Toxics (7408), Environmental Protection Agency, Ariel Rios Bldg., 200 Pennsylvania Ave., NW., Washington, DC 20460; telephone number: (202) 554-1404; e-mail address: TSCA-Hotline@epa.gov.

For technical information contact: Michele Veney, Office of Pollution Prevention and Toxics (OPPT), Pollution Prevention Division (PPD), 7409, Environmental Protection Agency, 1200 Pennsylvania Ave., NW., Washington, DC 20460; telephone number: (202) 260-4588; e-mail address: veney.michele@epa.gov.

SUPPLEMENTARY INFORMATION:

I. General Information

A. Does this Action Apply to Me?

This action is directed to the public in general. The Agency has not attempted to specifically describe the entities potentially affected by this action. If you have any questions regarding the applicability of this action to a particular entity, consult the technical person listed under FOR FURTHER INFORMATION CONTACT.

B. How Can I Get Additional Information, Including Copies of this Document, the Grant Application, or Other Related Documents?

1. Electronically. You may obtain electronic copies of this document, and application forms for EJP2 grants, from EPA's EJP2 Internet Home Page at http://www.epa.gov/opptintr/ejp2.

2. By mail. You may mail a request for this information to the technical person listed in the FOR FURTHER INFORMATION CONTACT section, at the address listed.

C. Where and to Whom Do I Submit My Application?

Please submit one original grant application packet and one copy by mail, by person, or by courier to: EJP2 Grant Program, c/o ERG, 2200 Wilson Blvd., Suite 400, Arlington VA 22201.

D. What is the Deadline for Submitting Applications?

All applications must be received by the EPA contractor, Eastern Research Group (ERG), on or before April 20, 2001. You must submit your application in accordance with the instructions and requirements laid out in Units I., III., IV. of the SUPPLEMENTARY INFORMATION.

E. What Other Information Does this Notice Include?

1. Scope and Purpose of the Environmental Justice Through Pollution Prevention Grant Guidance

2. Eligible Applicants and Activities

3. Application Requirements

4. Evaluation of Proposals

5. Process for Awarding Grants

6. Expected Time-frame for Reviewing and Awarding Grants

7. Project Period and Final Reports

8. Definitions

9. Regional Contacts

10. Information Regarding Definition of Small Business

II. Scope and Purpose of EJP2 Grant Program

Since 1995, the EJP2 grant program has funded projects which have sought to encourage innovative, non-regulatory pollution prevention techniques in environmental justice communities. Over the last 5 years of the program, eligible grant recipients have experimented with a variety of different approaches. With experience, we are better able to assess the types of projects and techniques that might be replicated in other affected communities, and the types of projects that should be deferred. We anticipate having less money than in previous years, and applicants can make better use of their time and energy if all eligibility requirements are followed. This grant program is designed specifically to fund only those projects that directly benefit minority and low-income communities by applying pollution prevention approaches. EPA will not award EJP2 funds to proposals for cleanup and disposal activities, trash collection, recycling, and/or pest removal, and/or other initiatives that are aimed at avoiding the generation of pollution.

This year, EPA will limit eligibility to projects involving:

1. Helping Small Businesses and Institutions Prevent Pollution in Communities. Projects in this category should involve forging voluntary partnership programs, demonstration projects, and/or general technical assistance and training.

2. Fostering Partnerships Between Industrial Facilities and Communities. Projects in this category should involve helping community residents forge relationships with large industrial facilities in their neighborhoods in an attempt to work with the facilities to make environmental improvements and address community concerns.

3. Demonstrating Agricultural Pollution Prevention. Projects in this category should involve providing tools to farm workers on best management practices that attempt to reduce pesticide use and worker exposure.

4. Improving Tribal Environments. Projects in this category should involve developing strategies that address environmental concerns and promote the development of tribal environmental legislation essential for pollution prevention.

This year, EPA will not fund projects primarily involving:

1. Educating Communities about Pollution Prevention. Projects in this category provided outreach materials and technical assistance on pollution prevention approaches through the medium of television broadcasts, brochures, and newsletters to affected communities.

2. Promoting Efficient Resource Use Within Communities. Projects in this category promoted energy efficiency, advocated alternatives modes of transportation, and launched the development of urban gardens.

3. Fostering Youth Education and Involvement. Projects in this category involved carrying out educational programs and developing curricula to help youth better comprehend environmental issues and develop their capacity to address environmental problems in their communities.

4. Projects from previous years that fit these various categories are described in more detail in EPA's publication on Promoting Environmental Justice through Pollution Prevention (EPA742K-00-001) and in EPA's Assessment of the Environmental Justice through Pollution Prevention grants program, available in Adobe Acrobat Reader .pdf format on EPA's EJP2 Internet Home Page at: http://www.epa.gov/opptintr/ejp2. Copies of the Assessment are also available by calling (703) 841-0483.

A. Background on EJP2 Grant Program

In 1990, Congress enacted the Pollution Prevention Act, which established a national policy to prevent or reduce pollution at the source whenever possible. EPA has increasingly devoted its attention to actively ensuring fair environmental protection for all communities while trying to empower those most often disenfranchised from the decision-making process, namely the poor and people of color. In its 1992 report, Environmental Equity: Reducing Risk for All Communities, EPA concluded that people of color and low-income communities are subject to higher levels of toxic pollutant exposure than the general population. Recognizing the disproportionate environmental impacts that many minority and low-income communities face, EPA's Office of Pollution Prevention and Toxics (OPPT) is devising ways to aid these communities solve environmental problems through pollution prevention, which is any practice that reduces or eliminates a pollutant prior to recycling, treatment or disposal. EJP2 grants are meant to aid in the approach toward environmental protection by playing a central role in reducing environmental risks while promoting public involvement and increasing economic benefits.

B. How Does EPA Define Environmental Justice

Environmental justice is the fair treatment and meaningful involvement of all people regardless of race, color, national origin, or income with respect to the development, implementation, and enforcement of environmental laws, regulations, and policies. Fair treatment means that no group of people, including a racial, ethnic, or socioeconomic group, should bear a disproportionate share of the negative environmental consequences resulting from industrial, municipal, and commercial operations or the execution of federal, state, local, and tribal programs and policies.

C. How is Pollution Prevention Defined Under the Environmental Justice Through Pollution Prevention Grants Program?

EPA has defined pollution prevention as source reduction, which is any practice that reduces or eliminates a pollutant prior to recycling, treatment, or disposal. EPA further defines pollution prevention as the use of other practices that reduce or eliminate the creation of pollutants through:

1. Increased efficiency in the use of raw materials, energy, water, or other resources, and

2. Protection of natural resources by conservation.

To help the public better understand pollution prevention, EPA has established a hierarchy of environmental management practices. In order of preference, these practices include: Pollution prevention and source reduction, recycling, treatment, and safe disposal.

This grant program is focused on applying pollution prevention and source reduction techniques to bring about better environmental protection.

D. How is Pollution Prevention Different from Other EPA Programs?

EPA grant programs have traditionally focused on preventing pollution through reactive means, usually by way of treatment, cleanup, recycling, and/or disposal. EJP2 grants, however, use pollution prevention methods as a preferable approach toward reducing pollution at the source, thereby lessening the need to treat, recycle, and dispose of contaminants. By using proven pollution prevention approaches contaminants have less of a chance to enter the environment and potentially cause adverse environmental health and safety side-effects.

E. What If My Project is Not Pollution Prevention?

EPA, along with other Federal agencies, may have other grant funds available to address your particular needs. For example, EPA's Environmental Justice Small Grants Program, managed by the Office of Environmental Justice, provides grant funding for projects that address environmental justice problems through ways other than pollution prevention. A list of all EPA grant programs can be found in the Catalog of Federal Domestic Assistance. You may also find copies at some 1,300 Federal Deposit Libraries around the nation (usually located at major colleges and/or universities), or at National Agricultural Libraries (usually located in rural or agricultural areas). You may also find the Catalog of Federal Domestic Assistance on the Internet at: http://www.cfda.gov. To purchase copies please call the General Services Administration at (202) 708-5126.

F. What is the Impact of this Program on Small Entities?

The EJP2 grant program is targeted at nonprofit and community organizations, and therefore benefits small entities. We have informed potential grantees by Federal Register publication, updates on the EPA web site, and by maintaining a mailing list of interested parties. We have worked to minimize any potential adverse impacts by clarifying the applicability of the guidance, by encouraging applications that stand little chance of funding, and by providing information on successful projects and approaches.

G. Submission to Congress and the Comptroller General

The Congressional Review Act, 5 U.S.C. 801 et seq., as added by the Small Business Regulatory Enforcement Fairness Act of 1996, generally provides that before a rule may take effect, the agency promulgating the rule must submit a rule report, which includes a copy of the rule, to each House of the Congress and to the Comptroller General of the United States. EPA will submit a report containing this rule and other required information to the U.S. Senate, the U.S. House of Representatives, and the Comptroller General of the United States prior to publication of the rule in the Federal Register. A major rule cannot take effect until 60 days after it is published in the Federal Register. This action is not a “major rule” as defined by 5 U.S.C. 804(2).

III. Eligible Applicants and Activities

A. Who May Submit Applications, and May an Applicant Submit More Than One Proposal?

Any incorporated non-profit community organization, local government, or federally recognized tribal government may submit an application upon publication of this solicitation. “Non-profit” organization means any corporation, trust, association, cooperative, or the organization that:

1. Is operated primarily for scientific, education, service, charitable, or similar purposes in the public interest;

2. Is not organized primarily for profit; and

3. Uses its net proceeds to maintain, improve, and/or expand its operations.

While state and local governments and academic institutions are eligible to receive grants, preference will be given to non-profit, community-based/grassroots organizations and state and federally recognized tribal organizations. Organizations must be incorporated by Friday, April 20, 2001 in order to be eligible to receive EJP2 grant funds. For-profit organizations, federal agencies, and individuals are not eligible for this grant. Organizations excluded from applying directly, as well as those inexperienced in grant-writing, are encouraged to develop partnerships and prepare joint proposals with organizations that are eligible for funding. No applicant can receive two grants for the same project at one time. EPA will consider only one proposal per project. Applicants may submit more than one application as long as the applications are for separate and distinct projects.

B. What Types of Projects Are Eligible for Funding?

In past years EPA has encouraged a variety of innovative approaches to pollution prevention through the EJP2 program. The program recently conducted an assessment of previous EJP2 grants. The Assessment includes details on previous grant projects, and factors that contributed to project success. Based on the Assessment, and the fact that the EJP2 program has less money to award in FY 2001, EPA is narrowing the types of projects that will be funded under this program. In past years, this program has been extremely competitive. In the most recent competition, EPA was able to fund fewer than one out of every six applications.

This year, the EJP2 program will only fund projects in four categories:

1. Helping Small Businesses Prevent Pollution in Communities;

2. Fostering Partnerships Between Industrial Facilities and Communities;

3. Demonstrating Agricultural Pollution Prevention;

4. Improving Tribal Environments.

More detail on the types of projects that have been funded is available in the Assessment, and in the EPA Brochure entitled Promoting Environmental Justice Through Pollution Prevention. In the past, EPA has funded grants involving:

1. Fostering Youth Education and Involvement,

2. Educating Communities about Pollution Prevention; and

3. Promoting Efficient Resource Use within Communities.

EPA strongly encourages cooperative efforts between communities, business, industry, and government to address common pollution prevention goals. In addition to narrowing the focus, EPA is encouraging applicants to use already existing information and material rather than use scarce resources to research and develop new initiatives to satisfy a project's goal. EPA urges all applicants to consult the Assessment of EPA's EJP2 Grant Program. The EJP2 Assessment is available by calling: (703) 841-0483, or one can obtain a downloadable version in Adobe Acrobat Reader .pdf format via EPA's EJP2 Internet Home Page at: http://www.epa.gov/opptintr/ejp2.

C. How Much Money May Be Requested? Are Matching Funds Required?

Organizations seeking funds from the EJP2 grant program can request up to $75,000 for projects. EPA no longer requires cost sharing or matching for this grant program from institutions of higher education, hospitals, and other non-profit organizations, unless otherwise required by statute, regulation, Executive Order or official Agency policy. Applicants that are governmental entities, such as state and local governments are subject to a 25% matching or cost-sharing requirement. Matching or cost-sharing requirements may be satisfied through either cash or in-kind contributions.

D. Are There Any Restriction on the Use of Federal Funds?

Yes. EPA grant funds can only be used for the purposes set forth in the grant agreement. Grant funds from this program cannot be used for matching funds for other federal grants, construction, personal gifts (e.g., t-shirts, buttons, and hats), purchasing furniture, litigation, lobbying, or intervention in federal regulatory or adjudicatory proceedings. In addition, the recipient may not use these federal assistance funds to sue the federal government or any other government entities. For more information, refer to 40 CFR 30.27, “ Allowable Costs.”

IV. Application Requirements

A. What is Required for Applications?

Proposals from eligible organizations must include the information listed below. To save paper, please provide double-sided copies whenever possible. Please include one original application packet (with original signatures where required) and one copy of the application packet. Proposals that do not include all of the materials listed below will not be considered for funding. To obtain copies of the EJP2 grant program guidance and application package or to obtain more information regarding the EJP2 grant program, please call (703) 841-0483. A complete electronic copy of the EJP2 grant program guidance and application package is also available via the Internet at EPA's EJP2 Internet Home Page at: http://www.epa.gov/opptintr/ejp2.

Grant Application:

The total number of pages per application may not exceed 25 double-sided pages. Pages must be letter size (8 1/2 ″ x 11″), with normal type size (11 CPI), and have at least 1″ margins.

1. One page summary cover sheet must include:

(a) Name of applicant;

(b) Address of applicant;

(c) Phone number + e-mail address for contact;

(d) Project name;

(e) Dollar amount requested from EPA;

(f) Identification of what category the project will address (e.g. helping small businesses prevent pollution in communities, fostering partnerships between industrial facilities and communities, demonstrating agriculturalpollution prevention, or improving tribal environments);

(g) Brief description of the environmental justice issue(s) to be addressed by the project;

(h) Brief description and explanation of the parties contributing to the concern (e.g. small business, an industrial/agricultural facility or farm);

(i) Brief description of what type of pollution prevention approach will be utilized to address the environmental justice issues in the project proposal; and

(j) Brief description of the purpose of the grant proposal.

2. Narrative (no more than 5 pages in length). The narrative should include a:

(a) Description of the affected communities;

(b) Identification of what category the project will address (e.g. helping small businesses prevent pollution in communities, fostering partnerships between industrial facilities and communities, demonstrating agricultural pollution prevention, or improving tribal environments);

(c) Description of the environmental justice issue(s) to be addressed by the project;

(d) Description of the pollution prevention approach that will be utilized in the project;

(e) Description of the involvement of community and partner organizations in developing and implementing the project;

(f) Description of the anticipated environmental results and other benefits for the community;

(g) Description of the approach used to evaluate the project.

3. Letters of commitment, memoranda of understanding, or other documents that highlight significant involvement of other partners in your grant application.

4. Resumes or biographical information regarding the lead and other key personnel in the grant application.

5. Any additional information (e.g., history of the organization(s) and success stories).

6. Key contacts information sheet.

7. Application for Federal Assistance, SF 424, the official form required for all federal grants that requests basic information about the grantee and the proposed project.

8. The Federal Standard Form SF 424A, which provides information on budget and match.

9. Detailed, itemized budget.

10. Certification of Non-Construction, SF 424B

11. Certification Regarding Debarment, Suspension, and Other Responsibility Matters Form.

12. Certification Regarding Lobbying Form.

13. Disclosure of Lobbying Activities Form.

Please note: Your application may be subject to your state's intergovernmental review process, or the consultation requirements of section 204, Demonstration Cities and Metropolitan Development Act. Check with your state's Single Point of Contact to determine your requirements. Applicants from American Samoa, Guam, Puerto Rico, and the U.S. Virgin Islands should also check with their Single Point of Contact. If you do not know who your Single Point of Contact is, please call your EPA regional contact (see Unit X) or EPA Headquarters Grants Policy, Information and Training Branch at (202) 564-5325. Federally recognized tribal governments are not required to comply with this procedure.

B. When and Where Must Applications be Submitted?

Applicants must submit one signed original grant application and one copy by mail, by person, or by courier on or before 5 p.m. e.s.t., April 20, 2001 to the following address: EJP2 Grant Program, c/o ERG, 2200 Wilson Boulevard, Suite 400, Arlington VA, 22201. To request additional copies of the grant application, or for any questions please call (703) 841-0483.

V. Evaluation of Proposals

All proposals must meet three requirements in order to be considered for funding by this program:

1. Would the project benefit a minority and/or low-income community?

2. Would the project use a pollution prevention approach to address the environmental problems of the community?

3. Does the project address one or more of the priority funding areas identified for this program in section II of this guidance?

Proposals will be evaluated and scored by the reviewers on the basis of the following four criteria:

1. Is the proposed approach likely to successfully address the community's environmental concerns?

2. Does the project seem cost-effective?

3. Does the project identify a method for measuring and documenting the project's environmental results and other benefits for the community, either quantitatively or qualitatively?

4. Were the affected community, business or other institutions, and other partners and potential participants effectively involved in the development of the proposal?

VI. Process For Awarding and Issuing Grants

A. How Will Applications be Reviewed?

Each EPA Regional office will form a review panel that will review and evaluate all grant applications from communities within that Region. Applications will be screened to ensure that they meet eligibility requirements of this guidance. Postcards of acknowledgment confirming the receipt of a grant package application will be sent to all applicants by April 27, 2001. Official letters notifying grant applicants of the status of their application will be sent out by November 15, 2001.

B. How Will Final Selections be Made?

After individual projects are reviewed and ranked according to the criteria in Unit V., EPA Regional offices will compare the best applications and make final selections. Additional factors that EPA may take into account include geographic and socioeconomic balance, diverse nature of the projects, cost, and projects whose benefits can be sustained after the grant is completed.

The EJP2 grant program has historically been an extremely competitive process. In the most recent competition, EPA was able to fund fewer than one out of every six applications. If your project is not funded, you can refer to information regarding other EPA and federal grant opportunities listed in the Catalog of Federal Domestic Assistance.

Funding decisions for the EJP2 grant program's FY 2001 cycle will be publicly announced by October 31, 2001. Official letters informing all applicants of the status of their application will be sent out not later than November 15, 2001.

VII. Expected Time Frame For Reviewing and Awarding Grants

February 16, 2001. FY 2001 EJP2 Application Guidance is available and published in the Federal Register.

February 16, 2001 to April 20, 2001. Eligible grant recipients develop and complete their applications.

April 20, 2001. Applications must be postmarked by this date and mailed to: EJP2 Grant Program c/o ERG, 2200 Wilson Boulevard, Suite 400, Arlington VA, 22201.

April 27, 2001. Postcards will be sent to confirm receipt of grant applications.

April 27, 2001 to October 30, 2001. EPA regional program officials review and evaluate. Applications and select grant finalists. Applicants will be contacted by the Region if their application is being considered for funding. Additional information may be required from the finalists, as indicated in Unit IV. EPA regional grant offices process grants and make awards.

October 31, 2001. EPA expects to release the national announcement of the FY 2001Environmental Justice Through Pollution Prevention Grant Recipients.

November 2, 2001. All projects must begin on or after this date.

November 15, 2001. Official letters will be sent out on or before this date notifying all applicants of the status of their application.

October 1, 2003. All projects must conclude, and funds must be expended by this date.

VIII. Project Period and Final Reports

Activities must be completed and funds spent within the time frame specified in the grant award, usually two years. An additional third year may be allowed if a grant extension is extended. Project start dates will depend upon the grant award date (most projects begin in August or September). The recipient organization is responsible for the successful completion of the project. The recipient project manager is subject to approval by the EPA project officer, but EPA may not designate a particular person as the project manager.

All recipients must submit final reports for EPA approval within sixty (60) days of the end of the project period. Specific report requirements (e.g., Final Technical Report and Financial Status Report) will be described in the award agreement. EPA will collect, review, and disseminate grantees' final reports to serve as model programs.

IX. Definitions

1. Affected communities. Individuals or groups of individuals who are subject to an actual or potential health, economic or environmental threat arising from or which arose from pollution sources or proposed polluting sources. Affected parties for example include individuals who live near pollution sources and whose health is or might be endangered or whose economic interest is directly threatened or harmed.

2. Community Development Financial Institution (CDFI). An institution that meets the criteria specified in section 103 of the Riegle Community Development and Regulatory Improvement Act of 1994.

3. Environmental justice. The fair treatment of people of all races, cultures and incomes with respect to the development, implementation and enforcement of environmental laws, regulation programs and polices. Fair treatment means that no racial ethnic or socioeconomic group should bear a disproportionate share of the negative environmental consequences resulting from the operation of industrial, municipal, and commercial enterprises, and from the execution of federal, state, local, and tribal programs and polices.

4. Low-income community. A population that is classified by the U.S. Bureau of Census as having an aggregated mean income (for a family of four) of $17,029 per year, adjusted for by the cost-of-living index of the locality, and whose income level is at the lowest 25% of the total population of a defined area or jurisdiction.

5. Non-profit organization. Any corporation, trust, association, cooperative, or organization that: (1) Is operated primarily for scientific, education, service, charitable, or similar purposes in the public interest; (2) is not organized primarily for profit; and (3) uses its net proceeds to maintain, improve, and/or expand its operations.

6. People of Color Community. A population that is classified by the U.S. Bureau of the Census as African American, Hispanic American, Asian, and Pacific American, American Indian Eskimo, Aleut and other nonwhite persons, whose compositions are at least 25% of the total population of a defined area or jurisdiction.

7. Pollution prevention. The reduction or elimination of pollutants through source reduction, increased efficiency in the use of raw material energy, water, or other resources; or the protection of natural resources by conservation. Pollution prevention measures reduce the amount of pollutants released into the environment prior to recycling, treatment, and disposal.

8. Small business. As defined by the Small Business Administration's (SBA) Small Business Size Regulations in 13 CFR part 121. Because SBA's definition of small business is very complex, and varies by industry, section XI lists information that can help determine if the business you intend to work with qualifies as a small business.

9. Tribe. All federally recognized American Indian tribes (including Alaska native villages), pueblos, and rancheros. The term tribe refers only to federally-recognized indigenous peoples. Other indigenous peoples are able to apply for grants as long as they are incorporated and otherwise meet eligibility requirements as a nonprofit organization.

X. Regional Contact Names and Addresses

Region 1: Connecticut, Maine, Massachusetts, New Hampshire, Rhode Island, Vermont.

Primary Contact: Ronnie Harrington; Phone: (617) 918-1703; USEPA Region 1 (SAA);e-mail: harrington.veronica@epa.gov; 1 Congress Street, Suite 100 Boston, MA 02114-2023.

Secondary Contact: Pat O'Leary; Phone: (617) 565-3834; e-mail: oleary.pat@epa.gov.

Region 2: New Jersey, New York, Puerto Rico, U.S. Virgin Islands.

Primary Contact: Marcia Seidner; Phone: (212) 637-3584;USEPA Region 2 (SPMMB); e-mail: seidner.marcia@epa.gov; 290 Broadway, 25th Floor New York, NY 10007.

Secondary Contact: Deborah Freeman; Phone: (212) 637-3730; e-mail: freeman.deborah@epa.gov.

Region 3: Delaware, District of Columbia, Maryland, Pennsylvania, Virginia, West Virginia.

Primary Contact: Jeff Burke; Phone: (215) 814-2761; USEPA Region 3 (3EI00); e-mail:burke.jeff@epa.gov; 1650 Arch Street Philadelphia, PA 19103-2029.

Region 4:Alabama, Florida, Georgia, Kentucky, Mississippi, North Carolina, South Carolina, Tennessee.

Primary Contact: Connie Raines; Phone: (404) 562-9671; USEPA Region 4; e-mail: raines.connie@epa.gov; 61 Forsyth Street, SW. Atlanta, GA 30303-8960.

Region 5: Illinois, Indiana, Michigan, Minnesota, Ohio, Wisconsin.

Primary Contact: Phil Kaplan; Phone: (312) 353-4669; USEPA Region 5 (DW-8J); e-mail: kaplan.phil@epa.gov; 77 West Jackson Boulevard Chicago, IL 60604-3590.

Region 6: Arkansas, Louisiana, New Mexico, Oklahoma, Texas.

Primary Contact: Eli Martinez; Phone: (214) 665-2119; USEPA Region 6 (6EN-XP);e-mail: martinez.eli@epa.gov; 1445 Ross Avenue, Suite 1200 Dallas, TX 75202-2733.

Region 7: Iowa, Kansas, Missouri, Nebraska.

Primary Contact: Althea Moses; Phone: (913) 551-7649; USEPA Region 7 (RAECO);e-mail: moses.althea@epa.gov; 901 North Fifth Street Kansas City, KS 66101.

Region 8: Colorado, Montana, North Dakota, South Dakota, Utah, Wyoming.

Primary Contact: Linda Walters; Phone: (303) 312-6385; USEPA Region 8 (8P-P3T); e-mail: walters.linda@epa.gov; 999 18th Street, Suite 500 Denver, CO 80202-2466.

Secondary Contact: Jean Belille; Phone: (303) 312-6556; e-mail:belille.jean@epa.gov.

Region 9: Arizona, California, Hawaii, Nevada, American Samoa, Guam.

Primary Contact: Eileen Sheehan; Phone: (415) 744-2190; USEPA Region 9 (WST-1-1); e-mail sheehan.eileen@epa.gov; 75 Hawthorne Street San Francisco, CA 94105.

Secondary Contact: John Katz; Phone: (415) 744-2150; e-mail: katz.john@epa.gov.

Region 10: Alaska, Idaho, Oregon, Washington.

Primary Contact: Lucita Valiere; Phone: (206) 553-2964;USEPA Region 10 (01-085); e-mail: valiere.lucita@epa.gov; 1200 Sixth Avenue Seattle, WA 98101.

XI. Information Regarding Definition of Small Business

Small business regulations are contained in Title 13 CFR Part 121, and the Federal Acquisition Regulation 48 CFR part 19.

For the small business definition of the applicable size standard and for size standard questions, you may contact the SBA located in one of the Area Offices of the office of Government Contracting or in Washington, D.C. A downloadable file with a table of the size standards is also available on “SBA ONLINE” under both the financial assistance and government contracting sections. You may reach SBA ONLINE via your computer at (800) 697-4636; or in the Washington Metropolitan Area at (202) 401-9600. The SBA ONLINE home page is on the Internet at: http:// www.sbaonline.sba.gov.

Each of the six area offices of the SBA's Office of Government Contracting, and two offices in the Washington, D.C. area, have an employee designated as a Size Specialist. Their addresses and telephone numbers are as follows:

1. Office of Government Contracting, New York Area Office, U.S. Small Business Administration, 26 Federal Plaza, Suite 3108, New York, NY 10278; Phone: (212) 264-7756.

2. Office of Government Contracting, Philadelphia Area Office, U.S. Small Business Administration, 475 Allendale Road, Suite 201, King of Prussia, PA 19406; Phone: (610) 962-3723.

3. Office of Government Contracting, Atlanta Area Office, U.S. Small Business Administration, 1720 Peachtree Road, NW., Suite 318 North, Atlanta, GA 30309; Phone: (404) 347-7587.

4. Office of Government Contracting, Chicago Area Office, U.S. Small Business Administration, 300 South Riverside Plaza, Suite 1975, Chicago, IL 60606-6617; Phone: (312) 353-7674.

5. Office of Government Contracting, Dallas Area Office, U.S. Small Business Administration, 8625 King George Drive, Building C, Dallas, TX 75235-3391; Phone: (214) 767-7639.

6. Office of Government Contracting, San Francisco Area Office, U.S. Small Business Administration, 71 Stevenson Street, 20th Floor, San Francisco, CA 94105-2939; Phone: (415) 975-4853.

7. Office of Size Standards, U.S. Small Business Administration, 409 3rd Street, SW., Washington, DC 20416; Phone: (202) 205-6618.

8. Office of Industrial Assistance, U.S. Small Business Administration, 409 3rd Street, SW., Washington, DC 20416; Phone: (202) 205-6475.

List of Subjects

Environmental protection, grants, pollution prevention, environmental justice.

Dated: February 8, 2001.
William H. Sanders, III
Director, Office of Pollution Prevention and Toxics.

[FR Doc. 01-4553 Filed 2-22-01; 8:45 am]

BILLING CODE 6560-50-S